FEDERAL MARITIME COMMISSION

[Docket No. 17-03]

Antonio Egberto Carneiro Lima v. Fastway Moving and Storage, Inc.,d/b/a Dream Cargo, d/b/a Fastway, d/b/a Fastway Moving, et al.; Notice of Filing of Complaint and Assignment

Notice is given that a complaint has been filed with the Federal Maritime Commission (Commission) by Antonio Egberto Carneiro Lima, hereinafter “Complainant,” against Fastway Moving and Storage, Inc., d/b/a Dream Cargo, d/b/a Fastway, d/b/a Fastway Moving; Fastway Moving and Services Corp.; Fastway Moving and Trading Corp.; Abreu Lopes Transportes LTDA; and Abreu Logistics USA, LLC d/b/a Abreu Logistics & Cargo, hereinafter “Respondents.” Complainant states that Respondents are New Jersey and Florida corporations which “operate interchangeably as one business and are inexorably intertwined” and that Fastway Moving, Inc. is an FMC licensed non-vessel operating common carrier.

Complainant states he utilized Respondents' “services to transport approximately 33 cubic meters of household goods by water between the United States and Brazil.” Complainant alleges that Respondents allowed illegal items to be included with Complainant's household goods which caused the IRS to block the release of said items in Brazil. Complainant alleges that despite paying for the “complete services” package with Respondent “the Fastway Entities”, he had to personally work to resolve the matter with the IRS, pay the port fees, container, storage and other fees associated with his shipment.

Complainant files this claim “as a result of Respondents' violation of COGSA, the Shipping Act, and the FMC's regulations pursuant to COGSA and the Shipping Act at 46 CFR part 515.” Specifically, complainant alleges that the Respondents:

“a. [failed] to establish or observe just and reasonable practices related to the receiving, handling, or delivering of property in violation of 46 U.S.C. 41102(c);

b. [allowed] a person or persons to obtain transportation for property at less than the rates or charges established by the carrier in its tariff or service contract by means of false billing, false classification, false weighting, false measurement, or other unjust or unfair device or means in violation of 46 U.S.C. 41104(1);

c. [provided] a service in the liner trade that is not in accordance with the rates, charges, classifications, rules, and practices contained in a tariff published or a service contract entered into under chapter 405 of [Title 46], in violation of 46 U.S.C. 41104(2)(A);

d. knowingly and willfully [accepted] cargo from and [transported] cargo for the account of an ocean transportation intermediary that does not have a tariff as required by section 40501 of Title 46 and a bond, insurance, or other surety as required by section 40902 of Title 46, in violation of 46 U.S.C. 41104(11); and

e. any other charge of this type or of similar nature that is found to be unlawful under the circumstances.”

Complainant seeks reparations in the amount of $129,872.22, and other relief. The full text of the complaint can be found in the Commission's Electronic Reading Room at www.fmc.gov/17-03/.

This proceeding has been assigned to the Office of Administrative Law Judges. The initial decision of the presiding officer in this proceeding shall be issued by April 20, 2018, and the final decision of the Commission shall be issued by November 5 2018.

Rachel E. Dickon,
Assistant Secretary.

[FR Doc. 2017-08386 Filed 4-25-17; 8:45 am]

BILLING CODE 6731-AA-P